DEPARTMENT OF THE INTERIOR

National Park Service

Termination of an Environmental Impact Statement (EIS) for the General Management Plan (GMP) for Kings Mountain National Military Park (Park), South Carolina

AGENCY: National Park Service, Department of Interior.

ACTION: Notice.

SUMMARY: The National Park Service (NPS) is terminating preparation of an EIS for the GMP for the Park, South Carolina. A Notice of Intent to prepare an EIS for the Park GMP was published in the Federal Register on October 10, 2006 (71 FR 63350), and followed by a scoping newsletter. The NPS has since determined that an Environmental Assessment rather than an EIS is the appropriate level of environmental documentation for the plan.

SUPPLEMENTARY INFORMATION: The GMP will establish the overall management direction for the next 15 to 20 years. Two scoping information meetings were conducted on May 6 & 7, 2008, with stakeholders and the general public at Kings Mountain, North Carolina, and York, South Carolina. Initial scoping did not result in significant impacts being identified by the public. Additionally, the preliminary analysis of the alternatives does not indicate that significant impacts will result from implementation of any of the alternatives. The NPS planning team has developed two action alternatives, in addition to the no-action alternative (Alternative A) which represents the continuation of current management policies and practices. Alternative B would expand interpretive programs and materials to include the continuum of human history at the site, while continuing to focus the park's primary efforts on the 1780 battle. In addition, more interpretation of the natural history and environment of the site would be included in the park's interpretive program. Alternative C would broaden the interpretive experience at the park beyond the immediate battleground ridge area to include the routes and approaches used by Overmountain Victory fighters and more exhibits and programs in the woods around the ridge.

DATES: The NPS will notify the public, by mail, Web site, and other means, of public review periods and meetings associated with the Draft GMP/EA. All public review and other written public information will be made available online at http://parkplanning.nps.gov/parkHome.cfm?parkId=390.

Authority: The authority for publishing this notice is 40 CFR 1506.6.

FOR FURTHER INFORMATION CONTACT: Erin Broadbent, Superintendent, Kings Mountain National Military Park, 2625 Park Rd., Blacksburg, SC 2970; telephone, (864) 936-7921, e-mail: kimo_superintendent@nps.gov.

The responsible official for this Final EIS is the Regional Director, Southeast Region, National Park Service, 100 Alabama Street, SW., 1924 Building Atlanta, Georgia 30303.

Dated: March 18, 2010.
David Vela,
Regional Director, Southeast Region, National Park Service.

[FR Doc. 2010-7806 Filed 4-6-10; 8:45 am]

BILLING CODE 4310-70-P